DEPARTMENT OF ENERGY

Federal Energy Regulatory Commission

[Docket No. RP01-239-002]

Tennessee Gas Pipeline Company; Notice of Compliance Filing

May 3, 2001.

Take notice that on April 27, 2001, Tennessee Gas Pipeline (Tennessee), tendered for filing as part of its FERC Gas Tariff, Fifth Revised Volume No. 1, Tenth Revised Tariff Sheet No. 316. Tennessee requests that the foregoing tariff sheet be made effective April 1, 2001, in compliance with the Commission's previous order.

Tennessee states that this sheet is being filed to comply with the Commission's Letter Order issued on March 28, 2001 in Docket No. RP01-239-000, requiring Tennessee to further clarify the priority of Extended Delivery Service/Extended Receipt Service for the NET-284 Rate Schedule.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11649 Filed 5-8-01; 8:45 am]

BILLING CODE 6717-01-M